DEPARTMENT OF TRANSPORTATION

Federal Railroad Administration

[Docket Number FRA-2006-24216]

Petition for Waiver of Compliance

In accordance with Part 211 of Title 49 Code of Federal Regulations (CFR), this document provides the public notice that by a document dated May 11, 2012, the Sacramento Regional Transit District (SRTD) has petitioned the Federal Railroad Administration (FRA) for a waiver of compliance from certain provisions of the Federal railroad safety regulations contained at 49 CFR part 222, Use Of Locomotive Horns at Public Highway-Rail Grade Crossings; Part 229, Locomotive Safety Standards; and Part 234, Grade Crossing Signal System Safety and State Action Plans. FRA assigned the petition Docket Number FRA-2006-24216.

In a letter dated September 3, 2003, FRA granted SRTD conditional relief from 49 CFR Sections 229.125 and 234.105(c)(3) on SRTD's Blue and Gold Lines. In a letter dated July 28, 2006, FRA granted SRTD conditional relief from 49 CFR Part 222 at 17 shared highway-rail grade crossings. In a letter dated June 22, 2011, FRA extended the existing terms and conditions of SRTD's waivers for an 18-month period. FRA could not conclude that granting relief for a 5-year period was justified because FRA's field investigation revealed SRTD failed to comply with other applicable rail safety regulations.

In a petition dated May 11, 2012, SRTD stated they are not proposing any change of scope in their request for an extension. SRTD affirmed that 49 CFR 229.125 and 234.105(c)(3) would still apply to all shared highway-rail grade crossings on SRTD's Blue and Gold Lines. SRTD confirmed that 49 CFR part 222 would still apply to the 17 shared highway-rail grade crossings. SRTD explained that their request is consistent with the waiver process for shared use. (See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000)).

In the petition, SRTD acknowledged noncompliance with 49 CFR part 225, Railroad Accidents/Incidents: Reports Classification, and Investigations; and 49 CFR part 228, Hours of Service of Railroad Employees; Recordkeeping and Reporting; Sleeping Quarters. SRTD stated they have been working diligently to address deficiencies and are fully compliant. SRTD also stated they believe granting this waiver extension is in the public interest and consistent with railroad safety.

SRTD operates 37.5 miles of light rail (including 48 light rail stops or stations) 365 days a year using 76 light rail vehicles. Light rail trains begin operation at 4 a.m. with 14 trains running every 15 minutes during the day and 7 trains running every 30 minutes in the evening and on weekends. Blue Line and Gold Line trains operate until 10:30 p.m., and the Gold Line to Folsom, CA, operates until 7 p.m. SRTD operates three- and four-car trains during the peak periods and two-car trains during the off-peak hours. Single-car trains provide late evening and Sunday service. The end-to-end running time on the light rail Blue Line between Meadowview and Watt/Interstate 80 is 48 minutes. The running time for the Gold Line between Sacramento Valley Station and Folsom is 55 minutes. Weekday light rail ridership averages about 55,000.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 30, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on June 5, 2012.
Ron Hynes,
Acting Deputy Associate Administrator for Regulatory and Legislative Operations.

[FR Doc. 2012-14549 Filed 6-13-12; 8:45 am]

BILLING CODE 4910-06-P